DEPARTMENT OF TRANSPORTATION

Federal Aviation Administration

14 CFR Part 39

[Docket No. 2000-NE-12-AD]

RIN 2120-AA64

Airworthiness Directives; Turbomeca S.A. Arrius Models 2B, 2B1, and 2F Turboshaft Engines

AGENCY: Federal Aviation Administration (FAA), DOT.

ACTION: Notice of proposed rulemaking (NPRM).

SUMMARY: The FAA proposes to revise an existing airworthiness directive (AD) for Turbomeca S.A. Arrius Models 2B, 2B1, and 2F turboshaft engines. That AD currently requires replacing the right injector half manifold, left injector half manifold, and privilege injector pipe. This proposed AD would require the same actions, but relaxes the compliance time for the repetitive replacements on Arrius 2F engines. This proposed AD results from Turbomeca relaxing the repetitive replacement interval for Arrius 2F engine fuel nozzles based on review of returned fuel nozzles to Turbomeca. We are proposing this AD to prevent engine flameout during rapid deceleration, or the inability to maintain the 2.5 minutes one engine inoperative (OEI) rating, and to prevent air path cracks due to blockage of the fuel injection manifolds.

DATES: We must receive any comments on this proposed AD by July 26, 2005.

ADDRESSES: Use one of the following addresses to comment on this proposed AD:

• By mail: Federal Aviation Administration (FAA), New England Region, Office of the Regional Counsel, Attention: Rules Docket No. 2000-NE-12-AD, 12 New England Executive Park, Burlington, MA 01803-5299.

• By fax: (781) 238-7055.

• By e-mail: 9-ane-adcomment@faa.gov.

You can get the service information identified in this proposed AD from Turbomeca S.A., 40220 Tarnos, France; telephone: (33) 05 59 64 40 00; fax: (33) 05 59 64 60 80.

You may examine the AD docket, by appointment, at the FAA, New England Region, Office of the Regional Counsel, 12 New England Executive Park, Burlington, MA.

FOR FURTHER INFORMATION CONTACT: Christopher Spinney, Aerospace Engineer, Engine Certification Office, FAA, Engine and Propeller Directorate, 12 New England Executive Park, Burlington, MA 01803-5299; telephone: (781) 238-7175; fax: (781) 238-7199.

SUPPLEMENTARY INFORMATION:

Comments Invited

We invite you to submit any written relevant data, views, or arguments regarding this proposal. Send your comments to an address listed under ADDRESSES. Include “AD Docket No. 2000-NE-12-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

Examining the AD Docket

You may examine the AD Docket (including any comments and service information), by appointment, between 8 a.m. and 4:30 p.m., Monday through Friday, except Federal holidays. See ADDRESSES for the location.

Discussion

On April 16, 2001, we issued AD 2001-08-14, Amendment 39-12218 (66 FR 20910, April 26, 2001). That AD requires replacing the right injector half manifold, left injector half manifold, and privilege injector pipe. That AD results from reports from the Direction Generale de L'Aviation Civile (DGAC), which is the airworthiness authority for France, of partially or totally blocked fuel injection manifolds, which were found during inspections at a repair workshop.

Actions Since AD 2001-08-14 Was Issued

Since we issued AD 2001-08-14, we became aware that Turbomeca S.A. has relaxed the repetitive replacement interval for the right injector half manifold, left injector half manifold, and privilege injector pipe, on Arrius 2F engines, from within 200 hours time-in-service (TIS) since last replacement, to within 400 hours TIS since last replacement.

Relevant Service Information

Turbomeca has issued six revisions to alert service bulletin (ASB) No. A319 73 2012, for Arrius 2B and 2B1 turboshaft engines and has issued seven revisions to ASB No. A319 73 4001 for Arrius 2F turboshaft engines. These ASBs require the replacement of the right injector half manifold, left injector half manifold, and privilege injector pipes, based on operating hours and power check performance. When replacing the manifolds for the first time, the ASBs also require a borescope inspection of the flame tube and the high pressure turbine (HPT) area. The DGAC classified the original ASBs as mandatory and issued AD 1999-217(A) and AD 1999-233(A) in order to assure the airworthiness of these Turbomeca turboshaft engines in France.

Bilateral Agreement Information

These Turbomeca Arrius Models 2B, 2B1, and 2F turboshaft engines are manufactured in France and are type-certificated for operation in the United States under the provisions of § 21.29 of the Federal Aviation Regulations (14 CFR 21.29) and the applicable bilateral airworthiness agreement. Pursuant to this bilateral airworthiness agreement, the DGAC has kept us informed of the situation described above. We have examined the DGAC's findings, reviewed all available information, and determined that AD action is necessary for products of this type design that are certificated for operation in the United States.

FAA's Determination and Requirements of the Proposed AD

We are proposing this AD, which would:

• Relax the repetitive replacement compliance time for Arrius 2F engines in AD 2001-08-14, from 200 hours TIS to 400 hours TIS; and

• As in AD 2001-08-14, replace the right injector half manifolds, left injector half manifolds, and privilege injector pipes with 200 or more hours TIS on the effective date of the proposed AD within 30 days after the effective date of the proposed AD; and

• As in AD 2001-08-14, thereafter, for Arrius Models 2B and 2B1 turboshaft engines, replace injector manifolds within 200 hours TIS since last replacement.

The proposed AD would require you to use the service information described previously to perform these actions.

Costs of Compliance

There are about 266 Turbomeca S.A. Arrius Models 2B, 2B1, and 2F turboshaft engines of the affected design in the worldwide fleet. We estimate that 124 of these engines are installed on helicopters of U.S. registry. We also estimate that it would take about two work hours per engine to perform the proposed actions, and that the average labor rate is $65 per work hour. Required parts would cost about $14,320 per engine. The manufacturer has advised the DGAC that it may provide the parts at no cost to the operator, thereby substantially reducing the cost of this proposed rule. Based on these figures, we estimate the total cost of the proposed AD to U.S. operators, to replace all of the affected parts one time, to be $1,791,800.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2000-NE-12-AD” in your request.

List of Subjects in 14 CFR Part 39

Air transportation, Aircraft, Aviation safety, Safety.

The Proposed Amendment

Accordingly, pursuant to the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-12218 (66 FR 20910, April 26, 2001) and by adding a new airworthiness directive, to read as follows:

Turbomeca: Docket No. 2000-NE-12-AD. Revises AD 2001-08-14, Amendment 39-12218.

Applicability

This airworthiness directive (AD) is applicable to Arrius Models 2B, 2B1, and 2F engines. These engines are installed on but not limited to Eurocopter France Model EC120B and Eurocopter Deutschland EC135 T1 rotorcraft.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated, unless already done.

To prevent engine flameout and the inability to maintain the 2.5 minutes one engine inoperative (OEI) rating due to blockage of the fuel injection manifolds, do the following:

Initial Replacement

(a) If not already done in accordance with Turbomeca Alert Service Bulletin (ASB) No. A319 73 2012, Revision 2, dated May 25, 1999, or Revision 3, dated July 21, 2000, or ASB No. A319 73 4001, Revision 3, dated May 25, 1999 or Revision 4, dated October 20, 2000, replace injector manifolds and borescope-inspect the flame tube and the high pressure turbine area within 30 days after the effective date of this AD, or prior to exceeding 200 hours time-in-service (TIS), whichever is later. Do these in accordance with Instructions 2.A. through 2.C. of Turbomeca ASB No. A319 73 2012, Revision 6, dated August 14, 2004 for Arrius 2B and 2B1 turboshaft engines, and ASB No. A319 73 4001, Revision 7, dated August 14, 2004, for Arrius 2F turboshaft engines, except that replacement may be done at any appropriately rated repair shop.

Repetitive Replacements

(b) Thereafter, replace injector manifolds, in accordance with Instructions 2.A. through 2.C. of Turbomeca ASB No. A319 73 2012, Revision 6, dated August 14, 2004 for Arrius 2B and 2B1 turboshaft engines, and ASB No. A319 73 4001, Revision 7, dated August 14, 2004, for Arrius 2F turboshaft engines, except that replacement may be done at any appropriately rated repair shop, as follows:

(1) For Arrius 2B and 2B1 engines, replace within 200 hours TIS since last injector manifolds replacement.

(2) For Arrius 2F engines, replace within 400 hours TIS since last injector manifolds replacement.

(3) For all engines, replace injector manifolds before further flight after performing the applicable flight manual or overhaul manual power check if that check shows a negative turbine outlet temperature (TOT) margin or negative T4 margin.

Definition

(c) For the purposes of this AD, time-in-service (TIS) is defined as the number of engine operating hours on the manifolds since the manifolds were new or since the manifolds were refurbished.

Alternative Methods of Compliance

(d) An alternative method of compliance or adjustment of the compliance time that provides an acceptable level of safety may be used if approved by the Manager, Engine Certification Office. Operators shall submit their request through an appropriate FAA Principal Maintenance Inspector, who may add comments and then send it to the Manager, Engine Certification Office.

Note 2: Information concerning the existence of approved alternative methods of compliance with this airworthiness directive, if any, may be obtained from the Engine Certification Office.

Special Flight Permits

(e) Special flight permits may be issued in accordance with §§ 21.197 and 21.199 of the Federal Aviation Regulations (14 CFR 21.197 and 21.199) to operate the aircraft to a location where the requirements of this AD can be accomplished.

Issued in Burlington, Massachusetts, on May 23, 2005.
Jay J. Pardee,
Manager, Engine and Propeller Directorate, Aircraft Certification Service.

[FR Doc. 05-10634 Filed 5-26-05; 8:45 am]

BILLING CODE 4910-13-P